DEPARTMENT OF JUSTICE

Notice of Lodging of Consent Decree Under the Clean Air Act, the Resource Conservation and Recovery Act, the Comprehensive Environmental Response, Compensation and Liability Act, and the Emergency Planning and Community Right-To-Know Act

Notice is hereby given that on April 18, 2008, a proposed Consent Decree (“Decree” ) in United States v. Rohm and Haas Chemicals LLC, Civil Action No. 3:08-cv-00198-TBR, was lodged with the United States District Court for the Western District of Kentucky, Louisville Division.

In this action the United States sought to obtain injunctive relief and assessment of civil penalties against Rohm and Haas Chemicals LLC (“Rohm and Haas”) for alleged violations of the Clean Air Act, 42 U.S.C. 7404-7671(q); the Resource Conservation and Recovery Act, 42 U.S.C. 6901-6992(k) (“RCRA”); the Comprehensive Environmental Response, Compensation and Liability Act, 42 U.S.C. 9601-9675(c) (“CERCLA”); and the Emergency Planning and Community Right-to-Know Act, 42 U.S.C. 11001-11050 (“EPCRA”) that occurred at a Rohm and Haas chemical-manufacturing facility in Louisville, Kentucky. The Decree would settle these claims and require Rohm and Haas to pay $35,975 in civil penalties and to perform the following Supplemental Environmental Projects: Install an emission-reducing cover on an organic water gravity separator at the Louisville Plant at an estimated cost of $115,000, and provide the City of Louisville with a hazard analysis software module at an estimated cost of $18,671.

The Department of Justice will receive for a period of thirty (30) days from the date of this publication comments relating to the Decree. Comments should be addressed to the Assistant Attorney General, Environment and Natural Resources Division, and either e-mailed to pubcomment-ees.enrd@usdoj.gov or mailed to P.O. Box 7611, U.S. Department of Justice, Washington, DC 20044-7611, and should reference United States v. Rohm and Haas Chemicals LLC., Civil Action No. 3:08-cv-00198-TBR, D.J. Ref. No. 90-5-2-1-08598.

The Decree may be examined at the Office of the United States Attorney, 510 W. Broadway, 10th Floor, Louisville, Kentucky 40202. During the public comment period, the Decree may also be examined on the following Department of Justice Web site: http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy from the Consent Decree Library, please enclose a check in the amount of $11.50 (25 cents per page reproduction cost) payable to the U.S. Treasury or, if by e-mail or fax, forward a check in that amount to the Consent Decree Library at the stated address.

Henry Friedman,
Assistant Chief, Environmental Enforcement Section, Environment and Natural Resources Division.

[FR Doc. E8-8947 Filed 4-23-08; 8:45 am]

BILLING CODE 4410-15-P